DEPARTMENT OF COMMERCE

National Oceanic and Atmospheric Administration

Evaluation of Coastal Zone Management Programs

AGENCY: Office of Ocean and Coastal Resource Management, National Ocean Service, National Oceanic and Atmospheric Administration (NOAA), DOC.

ACTION: Notice of Intent to Evaluate.

SUMMARY: The NOAA Office of Ocean and Coastal Resource Management (OCRM) announces its intent to evaluate the performance of the American Samoa Coastal Management Program.

This evaluation will be conducted pursuant to section 312 of the Coastal Zone Management Act of 1972 (CZMA), as amended, and regulations at 15 CFR Part 928. The CZMA requires a continuing review of the performance of states and U.S. territories with respect to coastal program implementation. Evaluation of Coastal Zone Management Programs requires findings concerning the extent to which a state or territory has met the national objectives, adhered to its coastal program document approved by the Secretary of Commerce, and adhered to the terms of financial assistance awards funded under the CZMA.

The evaluation will include a site visit, consideration of public comments, and consultations with interested Federal, Territorial, and local agencies and members of the public. A public meeting will be held as part of the site visit. Notice is hereby given of the date of the site visit for the listed evaluation, and the date, local time, and location of the public meeting during the site visit.

The American Samoa Coastal Management Program evaluation site visit will be from July 24-28, 2000. The public meeting will be held on Wednesday, July 26, 2000, at 5:00 p.m., in the Rainmaker Hotel, Pago Pago, American Samoa.

Copies of the Territory's most recent performance reports, as well as OCRM's notifications and supplemental request letters to the Territory, are available upon request from OCRM. Written comments from interested parties regarding this Program are encouraged and will be accepted until 15 days after the public meeting. Please direct written comments to Margo E. Jackson, Deputy Director, Office of Ocean and Coastal Resource Management, NOS/NOAA, 1305 East-West Highway, 10th Floor, Silver Spring, Maryland, 20910. When the evaluation is completed, OCRM will place a notice in the Federal Register announcing the availability of the Final Evaluation Findings.

FOR FURTHER INFORMATION CONTACT: Margo E. Jackson, Deputy Director, Office of Ocean and Coastal Resource Management, NOS/NOAA, 1305 East-West Highway, Silver Spring, Maryland 20910, (301) 713-3155, Extension 114.

Federal Domestic Assistance Catalog 11.419 Coastal Zone Management Program Administration.

Dated: June 7, 2000.
CAPT Ted Lillestolen,
Deputy Assistant Administrator for Ocean Services and Coastal Zone Management.

[FR Doc. 00-14874 Filed 6-8-00; 2:32 pm]

BILLING CODE 3510-08-M